DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: January 18, 2018, 10:00 a.m.

PLACE: Room 2C, 888 First Street NE, Washington, DC 20426.

STATUS: Open.

MATTERS TO BE CONSIDERED: Agenda, * NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's website at http://ferc.capitolconnection.org/ sing the eLibrary link, or may be examined in the Commission's Public Reference Room.

1039th—Meeting
[Regular meeting January 18, 2018; 10:00 a.m.]
Item No. | Docket No. | Company
ADMINISTRATIVE
A-1 | AD18-1-000 | Agency Administrative Matters.
A-2 | AD18-2-000 | Customer Matters, Reliability, Security and Market Operations.
ELECTRIC
E-1 | ER18-1-000, ER18-1-001 | California Independent System Operator Corporation.
E-2 | RM17-13-000 | Supply Chain Risk Management Reliability Standards.
E-3 | RM17-12-000 | Emergency Preparedness and Operations Reliability Standards.
E-4 | ER16-2217-005 | Logan Generating Company, L.P.
| ER17-2515-001 | Chambers Cogeneration, Limited Partnership.
E-5 | ER17-603-000 | Bear Swamp Power Company LLC.
E-6 | ER17-1459-000, ER06-615-000, ER02-1656-027, ER02-1656-029, ER02-1656-030, ER02-1656-031 | California Independent System Operator Corporation.
E-7 | ER17-2113-000 | Midcontinent Independent System Operator, Inc.
E-8 | ER16-2493-002 | South Carolina Electric & Gas Company.
E-9 | ER16-1169-001 | Ameren Illinois Company.
E-10 | ER16-1251-003 | Entergy Louisiana, LLC.
| ER13-1508-004 | Entergy Louisiana, LLC, Entergy Texas, Inc. and Entergy New Orleans, Inc.
E-11 | ER17-2495-000 | Southwest Power Pool, Inc.
E-12 | ER17-2579-000 | Entergy Arkansas, Inc.
| ER15-1436-000 | Entergy Gulf States Louisiana, L.L.C.
| ER15-1453-000 | Entergy Louisiana, LLC.
| ER16-1528-000 | Entergy Mississippi, Inc.
| (consolidated) | Entergy New Orleans, Inc. Entergy Texas, Inc.
| ER17-827-000 | Midcontinent Independent System Operator, Inc.
E-13 | TX17-1-000 | Wheatridge Wind Energy, LLC.
E-14 | EL16-89-000, EL17-40-000, ER06-554-000, ER17-512-000, ER17-512-001, ER17-512-002, ER17-512-003 | Virginia Electric and Power Company.
E-15 | Omitted
E-16 | Omitted
E-17 | EL16-100-000, ER14-1193-003 | West Deptford Energy, LLC.
E-18 | ER14-874-001, EL18-25-000 | Calpine Bethlehem, LLC.
| ER14-875-001, ER17-2566-000 | Calpine Mid-Atlantic Generation, LLC.
| ER12-954-003 | Calpine Mid Merit, LLC.
| ER14-873-001, ER15-2495-001 | Calpine New Jersey Generation, LLC.
| ER15-2735-003 | Garrison Energy Center LLC.
| ER10-2214-003 | Zion Energy LLC.
E-19 | ER17-1236-000, ER17-1236-001 | PJM Interconnection, L.L.C.
E-20 | ER17-419-000, ER17-419-003 | PJM Interconnection, L.L.C.
E-21 | ER16-2401-000, EL16-96-000 | PJM Interconnection, L.L.C.
E-22 | ER15-623-010, EL15-29-006 | PJM Interconnection, L.L.C.
| EL15-41-002 | Essential Power Rock Springs, LLC, Essential Power OPP, LLC and Lakewood Cogeneration, L.P. v. PJM Interconnection, L.L.C.
E-23 | EC17-49-001 | GridLiance West Transco LLC.
E-24 | EL16-64-001 | Belmont Municipal Light Department, Braintree Electric Light Department, Concord Municipal Light Plant, Georgetown Municipal Light Department, Groveland Electric Light Department, Hingham Municipal Lighting Plant, Littleton Electric Light & Water Department, Middleborough Gas & Electric Department, Middleton Electric Light Department, Reading Municipal Light Department, Rowley Municipal Lighting Plant, Taunton Municipal Lighting Plant, and Wellesley Municipal Light Plant v. Central Maine Power Company, Emera Maine (formerly known as Bangor Hydro- Electric Company), Eversource Energy Service Company and its operating company affiliates: The Connecticut Light and Power Company, Western Massachusetts Electric Company, Public Service Company of New Hampshire, and NSTAR Electric Company, New England Power Company, New Hampshire Transmission LLC, The United Illuminating Company, Fitchburg Gas and Electric Light Company and Vermont Transco, LLC.
E-25 | EL16-107-001 | Southern Maryland Electric Cooperative, Inc. and Choptank Electric Cooperative, Inc.
E-26 | EL15-47-002 | NextEra Desert Center Blythe, LLC v. California Independent System Operator Corporation.
GAS
G-1 | OR17-11-000 | Wood River Pipe Lines LLC.
G-2 | IS17-498-000, IS17-498-001, IS17-499-000, IS17-499-001, IS17-506-000, IS17-506-001 | Leveret Pipeline Company LLC.
| IS17-500-000, IS17-500-001, IS17-501-000, IS17-501-001 | Mid-America Pipeline Company, LLC.
G-3 | RP17-944-000 | Equitrans, L.P.
HYDRO
H-1 | P-2485-076 | FirstLight Hydro Generating Company.
H-2 | P-12569-015 | Public Utility District No. 1 of Okanogan County, Washington.
CERTIFICATES
C-1 | CP17-58-000 | Transcontinental Gas Pipe Line Company, LLC.
C-2 | CP13-520-000 | EQT Gathering LLC.

Dated: January 11, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-00740 Filed 1-12-18; 11:15 am]

BILLING CODE 6717-01-P